DEPARTMENT OF ENERGY

National Nuclear Security Administration

Notice of Availability of the Draft Site-Wide Environmental Impact Statement for Continued Operation of the Los Alamos National Laboratory

AGENCY: National Nuclear Security Administration, Department of Energy.

ACTION: Notice of availability and public hearings.

SUMMARY: The National Nuclear Security Administration (NNSA), a semi-autonomous agency within the Department of Energy (DOE), announces the availability of the Draft Site-Wide Environmental Impact Statement for Continued Operation of the Los Alamos National Laboratory (Draft LANL SWEIS) (DOE/EIS-0552) in compliance with the National Environmental Policy Act of 1969 (NEPA). NNSA also is announcing a 60-day public comment period and four public hearings to receive comments on the Draft LANL SWEIS. NNSA prepared the Draft LANL SWEIS to analyze the potential environmental impacts associated with continuing LANL operations and foreseeable new and/or modified operations and facilities for approximately the next 15 years.

DATES: NNSA invites other Federal agencies, Native American Tribes, state and local governments, industry, other organizations, and members of the public to review and submit comments on the Draft LANL SWEIS through March 11, 2025. NNSA will hold four public hearings (two of which will include a virtual component) to receive comments on the Draft LANL SWEIS. Times, dates, and locations for the public hearings are listed in the SUPPLEMENTARY INFORMATION section of this Notice of Availability. Any changes or updates to the public hearings will be published in local newspapers, posted on DOE and NNSA websites, and distributed through notices to the GovDelivery mailing list at least 15 days before the hearings.

ADDRESSES: Written and verbal comments will be given equal weight. NNSA will consider all comments received or postmarked by the end of the comment period in preparing the Final LANL SWEIS. Comments received or postmarked after the comment period will be considered to the extent practicable. Written comments on the Draft LANL SWEIS or requests for information related to the Draft LANL SWEIS should emailed to LANLSWEIS@nnsa.doe.gov or mailed to Mr. Stephen Hoffman, LANL SWEIS Document Manager, DOE/NNSA, 3747 W. Jemez Road, Los Alamos, New Mexico 87544. Before including your address, phone number, email address, or other personally identifiable information in your comment, please be advised that your entire comment—including your personally identifiable information—may be made publicly available. If you wish for NNSA to withhold your name and/or other personally identifiable information, please state this prominently at the beginning of your comment. You may submit comments anonymously. The Draft LANL SWEIS is available online at: https://www.energy.gov/nnsa/nnsa-nepa-reading-room and https://www.energy.gov/nepa/listings/latest-documents-and-notices. Copies of the Draft LANL SWEIS are also available for review at the LANL Public Reading Room at 94 Cities of Gold Road, Pojoaque, New Mexico.

FOR FURTHER INFORMATION CONTACT: For further information about this notice, please contact Mr. Stephen Hoffman, LANL SWEIS Document Manager, DOE/NNSA, 3747 W. Jemez Road, Los Alamos, New Mexico 87544; call 505-665-8980 to leave a message or via email at: LANLSWEIS@nnsa.doe.gov. Note that comments on the Draft SWEIS will not be accepted via the voicemail system; only written comments or those provided at a public hearing will be accepted. This notice and related NEPA documents are available at: https://www.energy.gov/nnsa/nnsa-nepa-reading-room.

SUPPLEMENTARY INFORMATION: Los Alamos National Laboratory (Laboratory or LANL) supports several NNSA missions, including enhancing U.S. national security through the military application of nuclear energy; maintaining and enhancing the safety, reliability, and effectiveness of the U.S. nuclear weapons stockpile, including the ability to design, produce, and test, in order to meet national security requirements; promoting international nuclear safety and nonproliferation; reducing global danger from weapons of mass destruction; and supporting U.S. leadership in science and technology. The continued operation of the Laboratory includes the DOE Office of Environmental Management legacy cleanup efforts at the LANL Site, in accordance with the Compliance Order on Consent between the State of New Mexico Environment Department and the DOE (Consent Order).

Public hearing dates and times | Location | Address
Tuesday, February 11, 2025; 1:00-4:00 p.m. MT; * Virtual Meeting: 1:30-4:00 p.m. MT | Santa Fe Community Convention Center, Sweeney Ballroom | 201 W. Marcy St., Santa Fe, NM 87501.
Tuesday, February 11, 2025; 5:00-8:00 p.m. MT; * Virtual Meeting: 5:30-8:00 p.m | Santa Fe Community Convention Center, Sweeney Ballroom | 201 W. Marcy St., Santa Fe, NM 87501.
Wednesday, February 12, 2025; 5:00-8:00 p.m. MT | Mision y Convento | 405 N. Paseo de Onate, Española, NM 87532.
Thursday, February 13, 2025; 5:00-8:00 p.m. MT | Fuller Lodge, Pajarito Room | 2312 Central Ave., Los Alamos, NM 87544.

For the in-person hearings, NNSA will hold an Open House for the first 30 minutes to provide the public with an opportunity to engage with DOE/NNSA personnel and ask questions about the Draft SWEIS and DOE/NNSA activities at LANL. Following the Open House, NNSA will make a presentation on the Draft SWEIS lasting approximately 30 minutes, then answer any clarifying questions related to the comment process. Following this presentation, NNSA will receive formal public comments with transcription by a court stenographer. NNSA will not answer questions during the formal public comment period. The two public hearings on February 11 will also offer a virtual option for remote participation in the presentation and public comment portions of the hearings. Virtual hearing access instructions (e.g., website link or phone number) will be announced at least 15 days before the hearing and will be published in local newspapers, noticed to the GovDelivery mailing list, and available on the following websites: https://www.energy.gov/nnsa/nnsa-nepa-reading-room and https://www.energy.gov/nepa/public-comment-opportunities.

The Draft LANL SWEIS analyzes three alternatives: (1) the No-Action Alternative, (2) the Modernized Operations Alternative, and (3) the Expanded Operations Alternative. Under the No-Action Alternative, NNSA would continue current facility operations throughout LANL in support of assigned missions. The No-Action Alternative activities have previously completed NEPA reviews and include construction of new facilities; modernization, upgrade, and utility projects; and decontamination, decommissioning, and demolition (DD&D) of excess and aging facilities. The No-Action Alternative also includes the continued legacy cleanup and environmental remediation in accordance with the Consent Order and the recently signed Settlement Agreement. The No-Action Alternative includes 87 new projects, totaling almost 1.5 million square feet, that would be implemented between 2024 and 2038. Also, under No-Action, NNSA would implement 11 projects involving facility upgrades, utilities, and infrastructure affecting about 216 acres of the LANL site. About 1.6 million square feet of excess or aging facilities would undergo DD&D under the No-Action Alternative. The No-Action Alternative also includes changes in operations, examples of which include increased plutonium pit production and the remediation of a chromium plume in Mortandad Canyon (which was the subject of a recent environmental assessment).

The Modernized Operations Alternative includes the scope of the No-Action Alternative plus additional modernization activities, including (1) construction of replacement facilities; (2) upgrades to existing facilities, utilities, and infrastructure; and (3) DD&D projects. Under the Modernized Operations Alternative, NNSA would replace facilities that are approaching their end of life, upgrade facilities to extend their lifetimes, and improve work environments to enable NNSA to meet operational requirements. The Modernized Operations Alternative also includes proposed projects to reduce greenhouse gases and other emissions. The Modernized Operations Alternative includes 139 new projects, totaling over 3.4 million square feet, that would be implemented between 2025 and 2038. Under Modernized Operations, NNSA would implement 27 projects involving facility upgrades, utilities, and infrastructure affecting about 925 acres of the LANL site. Of these 925 acres, up to 795 acres are proposed for installation of up to 159 megawatts of solar photovoltaic arrays across the site. An additional 1.2 million square feet of excess or aging facilities would undergo DD&D under the Modernized Operations Alternative.

The Expanded Operations Alternative includes the actions proposed under the Modernized Operations Alternative, plus actions that would expand operations and missions to respond to future national security challenges and meet increasing requirements. This alternative includes construction and operation of new facilities that would expand capabilities at LANL beyond those that currently exist. The Expanded Operations Alternative includes 18 additional new projects, totaling about 947,000 square feet, that would be implemented between 2025 and 2038. Under Expanded Operations, NNSA would implement 4 additional projects involving utilities and infrastructure affecting about 46 acres of the LANL site. Most of the utilities and infrastructure projects would be directly related to proposed projects under the Expanded Operations Alternative. The Expanded Operations Alternative also includes changes in operations, examples of which include revised wildland fire risk reduction treatments and management of feral cattle.

Following the public comment period, and after consideration of comments received, NNSA will prepare the Final LANL SWEIS. Decisions about future operations at the Laboratory will be provided in an NNSA Record of Decision published in the Federal Register, which would be issued no sooner than 30 days after publication by the Environmental Protection Agency of the notice of availability of the Final LANL SWEIS.

Signing Authority

This document of the Department of Energy was signed on this 6 December 2024, by Jill Hruby, Under Secretary for Nuclear Security and NNSA Administrator, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 3, 2025.
Treena V. Garrett,
Federal Register Liaison Officer, U.S. Department of Energy.

[FR Doc. 2025-00265 Filed 1-8-25; 8:45 am]

BILLING CODE 6450-01-P